DEPARTMENT OF TRANSPORTATION

Federal Aviation Administration

14 CFR Part 39

[Docket No. FAA-2012-1036; Directorate Identifier 2011-NM-122-AD]

RIN 2120-AA64

Airworthiness Directives; Airbus Airplanes

AGENCY: Federal Aviation Administration (FAA), DOT.

ACTION: Notice of proposed rulemaking (NPRM).

SUMMARY: We propose to supersede an existing airworthiness directive (AD) that applies to certain Airbus Model A319, A320, and A321 airplanes. The existing AD currently requires installing spacer assemblies at the attachment points of the YZ-latches of the cargo loading system (CLS) in the forward and aft cargo compartments, as applicable. Since we issued that AD, we have received reports that the installation has been applied only on one of the lower deck cargo holds, instead of on both forward and aft cargo holds, and that some airplanes could have installed the affected YZ-latches through the instructions of the cargo conversion manual. This proposed AD would require modifying the attachment points of fixed YZ-latches of the CLS lower deck cargo holds on those airplanes on which one or both lower deck cargo holds have not been modified. We are proposing this AD to prevent failure of the attachment points of the YZ-latches, which could result in unrestrained cargo causing damage to the fire protection system, hydraulic system, electrical wiring, or other equipment located in the forward and aft cargo compartments. This damage could adversely affect the continued safe flight of the airplane.

DATES: We must receive comments on this proposed AD by November 19, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS-EAW (Airworthiness Office), 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone (425) 227-1405; fax (425) 227-1149.

SUPPLEMENTARY INFORMATION:

Comments Invited

We invite you to send any written relevant data, views, or arguments about this proposed AD. Send your comments to an address listed under the ADDRESSES section. Include “Docket No. FAA-2012-1036; Directorate Identifier 2011-NM-122-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On February 22, 2007, we issued AD 2007-05-13, Amendment 39-14974 (72 FR 10348, March 8, 2007). That AD required actions intended to address an unsafe condition on certain Airbus Model A319, A320, and A321 series airplanes.

Since we issued AD 2007-05-13, Amendment 39-14974 (72 FR 10348, March 8, 2007), we have determined that additional airplanes are affected by the unsafe condition. The European Aviation Safety Agency (EASA), which is the Technical Agent for the Member States of the European Community, has issued EASA Airworthiness Directive 2011-0077, dated May 5, 2011 (referred to after this as “the MCAI”), to correct an unsafe condition for the specified products. The MCAI states:

Investigation has revealed that the installed Tie Down Points of YZ latches on the Cargo Loading System (CLS) of Airbus A319, A320 and A321 aeroplanes do not withstand the maximum loads in accordance with the certification requirements (CS 25.787 “Stowage compartments”).

In case of failure of Tie Down Points, unrestrained cargo parts could cause damage in the Forward (FWD) and AFT lower deck cargo holds (e.g. air conditioning, fire protection system, hydraulic system, electrical wiring, etc.), and therefore could have an impact on the safety of the flight.

EASA AD 2006-0184 [which corresponds to FAA AD 2007-05-13, Amendment 39-14974 (72 FR 10348, March 8, 2007)] was issued to require the modification of the attachment points of fixed YZ latches of the CLS in both FWD and AFT lower deck cargo holds, as applicable to aeroplane configuration, in accordance with Airbus SB A320-25-1294 Revision 01.

It has recently been identified that for some aeroplanes, Airbus SB A320-25-1294 Revision 01 has been applied only on one of the lower deck cargo holds (FWD or AFT) while both cargo compartments were concerned by the modification, and that some aeroplanes could have installed the affected YZ [latches] through the instructions of the Cargo Conversion Manual.

For the reasons described above, this [EASA] AD, which supersedes EASA AD 2006-0184, requires modification of the attachment points of fixed YZ latches of the CLS lower deck cargo holds on those aeroplanes on which one or both lower deck cargo holds have not been modified.

This [EASA] AD also prohibits installation of the affected YZ latches, identified by Part Number (P/N) in Table 1 of Appendix 1 of this [EASA] AD, on any aeroplane as replacement parts, unless all the attachment points of the YZ latch have been modified.

You may obtain further information by examining the MCAI in the AD docket.

Relevant Service Information

Airbus has issued Mandatory Service Bulletin A320-25-1294, Revision 06, dated July 23, 2010. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

Based on the service information, we estimate that this proposed AD would affect about 740 products of U.S. registry.

The actions that are required by AD 2007-05-13, Amendment 39-14974 (72 FR 10348, March 8, 2007), and retained in this proposed AD take about 4 work-hours per product, at an average labor rate of $85 per work hour. Required parts cost about $2,049 per product. Based on these figures, the estimated cost of the currently required actions is $2,389 per product.

We estimate that it would take about 15 work-hours per product to comply with the new basic requirements of this proposed AD. The average labor rate is $85 per work-hour. Required parts would cost up to $2,656 per product. Where the service information lists required parts costs that are covered under warranty, we have assumed that there will be no charge for these parts. As we do not control warranty coverage for affected parties, some parties may incur costs higher than estimated here. Based on these figures, we estimate the cost of the proposed AD on U.S. operators to be up to $2,908,940, or $3,931 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act. We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2007-05-13, Amendment 39-14974 (72 FR 10348, March 8, 2007), and adding the following new AD:

Airbus: Docket No. FAA-2012-1036; Directorate Identifier 2011-NM-122-AD.

(a) Comments Due Date

We must receive comments by November 19, 2012.

(b) Affected ADs

This AD supersedes AD 2007-05-13, Amendment 39-14974 (72 FR 10348, March 8, 2007).

(c) Applicability

This AD applies to Airbus Model A319-111, -112, -113, -114, -115, -131, -132, and -133 airplanes; Model A320-111, -211, -212, -214, -231, -232, and -233 airplanes; and Model A321-111, -112, -131, -211, -212, -213, -231, and -232 airplanes; certificated in any category; all manufacturer serial numbers.

(d) Subject

Air Transport Association (ATA) of America Code 25, Equipment/Furnishings.

(e) Reason

This AD was prompted by results from tests that have shown that the attachment points of the YZ-latches of the cargo loading system (CLS) fail under maximum loads and reports that installation has been applied only on one of the lower deck cargo holds, instead of on both forward and aft cargo holds, and that some airplanes could have installed the affected YZ-latches through the instructions of the cargo conversion manual. We are issuing this AD to prevent failure of the attachment points of the YZ-latches, which could result in unrestrained cargo causing damage to the fire protection system, hydraulic system, electrical wiring, or other equipment located in the forward and aft cargo compartments. This damage could adversely affect the continued safe flight of the airplane.

(f) Compliance

You are responsible for having the actions required by this AD performed within the compliance times specified, unless the actions have already been done.

(g) Retained Spacer Assembly Installation

This paragraph restates the requirements of paragraph (f) of AD 2007-05-13, Amendment 39-14974 (72 FR 10348, March 8, 2007). For Airbus Model A319, A320, and A321 airplanes identified in paragraphs (g)(1) and (g)(2) of this AD: Within 36 months after April 12, 2007 (the effective date of AD 2007-05-13), install spacer assemblies at the attachment points of the YZ-latches of the CLS in the forward and aft cargo compartments, as applicable, in accordance with the Accomplishment Instructions of Airbus Service Bulletin A320-25-1294, Revision 2, dated September 5, 2006. Accomplishing the actions in paragraph (i) of this AD terminates the requirements of paragraph (g) of this AD.

(1) Airplanes on which one of the following has been incorporated in production: Airbus Modification 20065, 20040, 24495, 24848, 24496, 21895, 21896, 25905, 25907, 22601, 22602, 27187, 28319, 28322, 28330, 28335, or 31797.

(2) Airplanes on which one of the following has been incorporated in service: Airbus Service Bulletin A320-25-1132, A320-25-1133, A320-25-1145, A320-25-1175, A320-25-1177, A320-25-1276, A320-25-1278, A320-28-1134, or A320-28-1141.

(h) New Modification

Except for Model A319, A320, and A321 airplanes on which both Airbus Modifications 32244 and 32245, or both Airbus Modifications 32316 and 32317, have been incorporated in production, and on which no YZ-latch replacements have been made since first flight: Within 20 months after the effective date of this AD, modify the attachment points of fixed YZ-latches of the CLS, having a part number (P/N) listed in table 1 to paragraph (h) of this AD, in both forward and aft lower deck cargo holds by adding spacer assemblies having P/N D2557232700000, in accordance with the Accomplishment Instructions of Airbus Mandatory Service Bulletin A320-25-1294, Revision 6, dated July 23, 2010. Accomplishing the actions in paragraph (h) of this AD terminates the requirements of paragraph (g) of this AD.

Table 1 to Paragraph (h) of this AD—Affected CLD YZ-Latches
Part No.
D 255 7 2380 000
D 255 7 2380 002
D 255 7 2380 006
D 255 7 2380 008
D 255 7 2350 002
D 255 7 2350 004
D 255 7 2350 006

(i) Parts Installation Limitation

As of the effective date of this AD, no person may install, on the CLS of any airplane, a YZ-latch having a part number listed in table 1 to paragraph (h) of this AD, unless it has been modified in accordance with the requirements of paragraph (h) of this AD.

(j) Credit for Previous Actions

(1) This paragraph provides credit for the installation required by paragraph (g) of this AD, if the installation was performed before April 12, 2007 (the effective date of AD 2007-05-13, Amendment 39-14974 (72 FR 10348, March 8, 2007), using Airbus Service Bulletin A320-25-1294, dated March 14, 2003; or Revision 1, dated March 27, 2006; which are not incorporated by reference in this AD.

(2) This paragraph provides credit for the modification required by paragraph (h) of this AD, if the modification was performed before the effective date of this AD, using one of the following service information and the additional work is done, in accordance with the applicable instructions referenced as “ADDITIONAL WORK” in the Accomplishment Instructions of Airbus Mandatory Service Bulletin A320-25-1294, Revision 6, dated July 23, 2010.

(i) Airbus Service Bulletin A320-25-1294, dated March 14, 2003.

(ii) Airbus Service Bulletin A320-25-1294, Revision 1, dated March 27, 2006.

(iii) Airbus Service Bulletin A320-25-1294, Revision 2, dated September 5, 2006.

(iv) Airbus Mandatory Service Bulletin A320-25-1294, Revision 3, dated January 22, 2007.

(v) Airbus Mandatory Service Bulletin A320-25-1294, Revision 4, dated March 13, 2008.

(vi) Airbus Mandatory Service Bulletin A320-25-1294, Revision 5, dated January 22, 2009.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(l) Related Information

(1) Refer to MCAI European Aviation Safety Agency Airworthiness Directive 2011-0077, dated May 5, 2011; and the following service information; for related information.

(i)Airbus Service Bulletin A320-25-1294, Revision 06, dated July 23, 2010.

(ii) Airbus Service Bulletin A320-25-1294, Revision 02, dated September 5, 2006.

(2) For service information identified in this AD, contact Airbus SAS-EAW (Airworthiness Office), 1 Rond Point Maurice Bellonte, 31707 Blagnac Cedex, France; telephone +33 5 61 93 36 96; fax +33 5 61 93 44 51; email account.airworth-eas@airbus.com; Internet http://www.airbus.com. You may review copies of the referenced service information at the FAA, Transport Airplane Directorate, 1601 Lind Avenue SW., Renton, WA. For information on the availability of this material at the FAA, call 425-227-1221.

Issued in Renton, Washington, on September 26, 2012.
Ali Bahrami,
Manager, Transport Airplane Directorate, Aircraft Certification Service.

[FR Doc. 2012-24405 Filed 10-3-12; 8:45 am]

BILLING CODE 4910-13-P